DEPARTMENT OF JUSTICE

Antitrust Division

Notice Pursuant to the National Cooperative Research and Production Act of 1993—Network Centric Operations Industry Consortium, Inc.

Notice is hereby given that, on October 12, 2007, pursuant to Section 6(a) of the National Cooperative Research and Production Act of 1993, 15 U.S.C. 4301 et seq. (“the Act”), Network Centric Operations Industry Consortium, Inc. has filed written notifications simultaneously with the Attorney General and the Federal Trade Commission disclosing changes in its membership. The notifications were filed for the purpose of extending the Act's provisions limiting the recovery of antitrust plaintiffs to actual damages under specified circumstances. Specifically, Telindus, Heverlee, BELGIUM; Advanced Virtual Engine Test Cell, Inc., Springfield, OH; Chandler/May, Inc., Huntsville, AL; and Australian Department of Defence, Canberra, ACT, AUSTRALIA have been added as parties to this venture. Also, Gallium Visual Systems Inc., Ottawa, Ontario CANADA; and EFW Incorporated, Fort Worth, TX have withdrawn as parties to this venture. In addition, MilSOFT Yazilim Teknolojileri A.S. has changed its name to MilSOFT ICT-Iletisim Teknolojileri A.S., Ankara, TURKEY.

No other changes have been made in either the membership on planned activity of the group research project. Membership in this group research project remains open, and Network Centric Operations Industry Consortium, Inc. intends to file additional written notifications disclosing all changes in membership.

On November 19, 2004, Network Centric Operations Industry Consortium, Inc. filed its original notification pursuant to Section 6(a) of the Act. The Department of Justice published a notice in the Federal Register pursuant to Section 6(b) of the Act on February 2, 2005 (70 FR 5486).

The last notification was filed with the Department on July 25, 2007. A notice was published in the Federal Register pursuant to Section 6(b) of the Act on August 24, 2007 (72 FR 48680).

Patricia A. Brink,
Deputy Director of Operations, Antitrust Division.

[FR Doc. 07-5553 Filed 11-6-07; 8:45 am]

BILLING CODE 4410-11-M